ENVIRONMENTAL PROTECTION AGENCY

[FRL-8719-6]

Clean Water Act; Contractor Access to Information Claimed as Confidential Business Information

AGENCY: Environmental Protection Agency (EPA).

ACTION: Notice of intended transfer of information claimed as confidential business information to contractors and subcontractors.

SUMMARY: The Environmental Protection Agency (EPA) intends to transfer information claimed as confidential business information (CBI) collected from several industries, including health services, drinking water treatment, and airport deicing to Abt Associates and its subcontractors, to PG Environmental, LLC, and its subcontractors, and to Westat. Transfer of the information will allow the contractors and subcontractors to support EPA in the planning, development, review, and implementation of effluent limitation guidelines and standards under the Clean Water Act (CWA). The information being transferred was or will be collected, in part, under the authority of section 308 of the CWA. Interested persons may submit comments on this intended transfer of information to the address noted below.

DATES: Comments on the transfer of data are due October 1, 2008.

ADDRESSES: Comments may be sent to Mr. M. Ahmar Siddiqui, Document Control Officer, Engineering and Analysis Division (4303T), Room 6231S EPA West, U.S. EPA, 1200 Pennsylvania Ave., NW., Washington, DC 20460.

FOR FURTHER INFORMATION CONTACT: Mr. M. Ahmar Siddiqui, Document Control Officer, at (202) 566-1044, or via e-mail at siddiqui.ahmar@epa.gov.

SUPPLEMENTARY INFORMATION: EPA has transferred CBI to various contractors and subcontractors over the history of the effluent guidelines program. EPA determined that this transfer was necessary to enable the contractors and subcontractors to perform their work in supporting EPA in planning, developing, reviewing, and implementing effluent guidelines and standards for certain industries.

Today, pursuant to 40 CFR 2.302(h)(2)(iii), incorporating by reference 40 CFR 2.301(h)(2)(iii), EPA is giving notice that it has entered into contracts with Abt Associates (Abt), contract number EP-C-07-023, located in Cambridge, MA, with PG Environmental, LLC (PG), contract number EP-C-07-029, located in Herndon, VA, and with Westat, contract numbers EP-D-07-109 and GS-23F-8144H, located in Rockville, MD. The purpose of these contracts is to secure economic, technical, and statistical analysis support for EPA in its development, review, implementation, and defense of effluent limitation guidelines and standards for, and studies of the environmental impacts and potential mitigation of effluent discharges for, a variety of industries, such as the drinking water treatment industry and the airport deicing industry. To obtain assistance in performing these contracts, Abt and PG have entered into contracts with their subcontractors. In particular, Abt has obtained the services of the following subcontractors: RTI International (located in Research Triangle Park, NC, subcontract number 21043); ICF Consulting (located in Fairfax, VA, subcontract number 21052); Great Lakes Environmental Center (located in Traverse City, MI, subcontract number 21040); Horizon Systems Corporation (located in Herndon, VA, subcontract number 21050); Aqua Terra (located in Mountain View, CA, subcontract number 21049); ETI (located in Westford, MA, subcontract number 21171); Stratus Consulting, Inc. (located in Washington, DC, subcontract number 20657); Indtai Inc. (located in Falls Church, VA, subcontract number 21046); and independent consultants Frank Arnold, Brynhildur Davidsdottir, Lori Snyder Bennear, Robert Johnston, Tim Bondelid, and Kurt Stephenson. PG has obtained the services of the following subcontractors: Amendola Engineering, Inc. (located in Westlake, OH, subcontract number EAD/029-003); Tetra Tech, Inc. (located in Fairfax, VA, subcontract number EAD/029-002); and Eastern Research Group (located in Chantilly, VA, subcontract number EAD/029-001).

All EPA contractor, subcontractor, and consultant personnel are bound by the requirements and sanctions contained in their contracts with EPA and in EPA's confidentiality regulations found at 40 CFR Part 2, Subpart B. Abt, PG, and Westat will adhere to EPA-approved security plans which describe procedures to protect CBI. Abt, PG, and Westat will apply the procedures in these plans to CBI previously gathered by EPA and to CBI that may be gathered in the future for the airport deicing industry, the drinking water treatment industry, and other industries. The security plans specify that contractor personnel are required to sign non-disclosure agreements and are briefed on appropriate security procedures before they are permitted access to CBI. No person is automatically granted access to CBI: a need to know must exist.

The information that will be transferred to Abt, PG, and Westat and their subcontractors consists, in part, of information previously collected by EPA to support the development, review, implementation, and defense of effluent limitations guidelines and standards under the CWA and for studies of the environmental impacts of and potential mitigation of effluent discharges from the airport deicing point source category, the drinking water treatment industry, the health services industry, and other industries. The information that will be transferred consists of material claimed as trade secrets, intellectual property, commercial, financial, and other information. It includes information about operations, processes, products, and company finances but does not include information which is inherently public, such as effluent discharge data.

EPA also intends to transfer to Abt, PG, and Westat all information described in this notice, of the type described above (including CBI) that may be collected in the future under the authority of section 308 of the CWA or voluntarily submitted (e.g., in comments in response to a Federal Register notice), as is necessary to enable Abt, PG, and Westat to carry out the work required by their contracts to support EPA.

Dated: September 16, 2008.
Ephraim S. King,
Director, Office of Science and Technology.

[FR Doc. E8-22466 Filed 9-23-08; 8:45 am]

BILLING CODE 6560-50-P